SMALL BUSINESS ADMINISTRATION

13 CFR Parts 121 and 124

Small Business Size Regulations; 8(a) Business Development/Small Disadvantaged Business Status Determinations

AGENCY: U.S. Small Business Administration.

ACTION: Notice of public meetings; request for comments.

SUMMARY: The U.S. Small Business Administration (SBA) announces it is holding a public meeting in Washington, DC on the topic of the proposed changes to the 8(a) Business Development (BD) Program Regulations and Small Business Size Regulations. Testimony and comments presented at the public comment meetings will become part of the administrative record as comments addressing the proposed changes to the regulations pertaining to the 8(a) BD program and small business size standards. Additional public meetings will be scheduled prior to the end of the comment period for the proposed rule-making.

DATES: The public meetings will be held on Thursday, December 10, 2009, from 9 a.m. to 4 p.m.; and Friday, December 11, 2009, from 9 a.m. to 4 p.m. Prospective participants must pre-register for either or both sessions on or before Monday, December 7, 2009, 5 p.m., Eastern Standard Time.

ADDRESSES: The public meetings will be conducted at SBA Headquarters in Washington DC in the Eisenhower Conference room located on the 2nd floor.

1. SBA is located at 409 3rd Street, SW., Washington DC 20416.

2. Send pre-registration requests to attend and/or testify to Ms. Latrice Andrews, SBA's Office of Business Development at Latrice.Andrews@sba.gov or by facsimile to (202) 481-4042.

3. Send all written comments to Mr. Joseph Loddo, Associate Administrator for Business Development, U.S. Small Business Administration, 409 3rd Street, SW., Washington, DC 20416.

4. Visitors to SBA will be subject to a security screening and will be required to present identification.

FOR FURTHER INFORMATION CONTACT: If you have any questions on this proposed rulemaking, call or e-mail LeAnn Delaney, Deputy Associate Administrator, Office of Business Development, at (202) 205-5852, or leann.delaney@sba.gov. If you have any questions about registering or attending the public meeting please contact Ms. Latrice Andrews, SBA's Office of Business Development at (202) 205-6031, or latrice.andrews@SBA.gov, or by facsimile to (202) 481-4042.

SUPPLEMENTARY INFORMATION:

I. Background

On October 28, 2009 (74 FR 55694-01), SBA issued a Notice of Proposed Rulemaking (NPRM). In that document, SBA proposed to make a number of changes to the regulations governing the 8(a) BD Program Regulations and several changes to its Small Business Size Regulations. Some of the changes involve technical issues. Other changes are more substantive and result from SBA's experience in implementing the current regulations. In addition to written comments, SBA is requesting oral comments on the various approaches for the proposed changes.

II. Public Hearings

The public meeting format will consist of a panel of SBA representatives who will preside over the session. The oral and written testimony will become part of the administrative record for SBA's consideration. Written testimony may be submitted in lieu of oral testimony. SBA will analyze the testimony, both oral and written, along with any written comments received. SBA officials may ask questions of a presenter to clarify or further explain the testimony. The purpose of the public meetings is to allow the general public to comment on SBA's proposed rulemaking. SBA requests that the comments focus on the proposed changes as stated in the NPRM. SBA requests that commentors do not raise issues pertaining to other SBA small business programs. Presenters may provide a written copy of their testimony. SBA will accept written material that the presenter wishes to provide that further supplements his or her testimony. Electronic or digitized copies are encouraged.

SBA will hold additional public meetings before the close of the comment period for this rulemaking.

III. Registration

Any individual interested in attending and making an oral presentation shall pre-register in advance with SBA. Registration requests must be received by SBA no later than 5 p.m., Monday, December 7, 2009. Please contact Ms. Latrice Andrews of SBA's Office of Business Development in writing at Latrice.Andrews@sba.gov or by facsimile to (202) 481-4042. Please include the following information relating to the person testifying: Name, Organization affiliation, Address, Telephone number, E-mail address, and Fax number. SBA will attempt to accommodate all interested parties that wish to present testimony. Based on the number of registrants it may be necessary to impose time limits to ensure that everyone who wishes to testify has the opportunity to do so. SBA will send confirmation of registration in writing to the presenters and attendees.

IV. Information on Service for Individuals With Disabilities

For information on facilities or services for individuals with disabilities or to request special assistance at the public meetings, contact Ms. Latrice Andrews at the telephone number or e-mail address indicated under the FOR FURTHER INFORMATION CONTACT section of this notice.

Authority: 15 U.S.C. 632, 634(b)(6), 636(b), 637(a), 644, and 662(5); and Pub. L. 105-135, sec. 401 et seq., 111 Stat. 2592.

Dated: November 24, 2009.
Joseph Jordan,
Associate Administrator for Government Contracting and Business Development.

[FR Doc. E9-28664 Filed 11-25-09; 4:15 pm]

BILLING CODE 8025-01-P